NATIONAL SCIENCE FOUNDATION

Committee on Equal Opportunities in Science and Engineering; Notice of Meeting

In accordance with the Federal Advisory Committee Act (Pub. L. 92-463, as amended), the National Science Foundation announces the following meeting:

Name: Committee on Equal Opportunities in Science and Engineering (1173).

Dates/Time:

October 7, 2003, 9 a.m.-5:30 p.m. and

October 8, 2003, 8:30 a.m.-1:30 p.m.

Place: National Science Foundation, 4201 Wilson Boulevard, Arlington, VA, Room 1235S.

Type of Meeting: Open.

Contact Person: Dr. Margaret E.M. Tolbert, Senior Advisor and Executive Liaison, CEOSE, Office of Integrative Activities, National Science Foundation, 4201 Wilson Boulevard, Arlington, VA 22230, Telephone: (703) 292-8040.

Minutes: May be obtained from the Executive Liaison at the above address.

Purpose of Meeting: To provide advice and recommendations concerning broadening participation in science and engineering.

Agenda:

Tuesday, October 7, 2003

Presentation and Discussion of the Supreme Court Decision on Affirmative Action: Implications for Minority Federal Programs and Educational Institutions

Discussion of the NSF Criterion 2

Discussion of the CEOSE Response to the National Science Board Workforce Policy Draft

Discussion of the CEOSE Response to the Draft 2004 Report on Women, Minorities, and Persons with Disabilities

Presentation and Discussion of Initiative for Persons with Disabilities

Discussion with NSF Director

Reports by CEOSE Liaisons on NSF Advisory Committees

Reports by CEOSE Ad Hoc Subcommittees Chairs

Wednesday, October 8, 2003

Discussion of Overarching Questions to Set the Future Agenda for CEOSE

Presentation and Discussion of Pipeline Issues as Cultural Issues

Special Reports

Discussion of Plans for the CEOSE 2004 Biennial Report to Congress

Refinement of Recommendations Resulting from the Meeting

Dated: September 17, 2003.
Susanne Bolton,
Committee Management Officer.

[FR Doc. 03-24105 Filed 9-18-03; 12:01 pm]

BILLING CODE 7555-01-M